DEPARTMENT OF AGRICULTURE

Forest Service

Trinity County Resource Advisory Committee

AGENCY: Forest Service, USDA.

ACTION: Notice of meeting.

SUMMARY: The Trinity County Resource Advisory Committee (RAC) will meet at the Trinity County schools office conference room on August 17, 2009 from 6:30 p.m. The purpose of this meeting is to discuss proposed projects under Title II of the Secure Rural Schools and Community Self-Determination Act of 2008.

DATES: Monday, August 17, 2009 at 6:30 p.m.

ADDRESSES: The meeting will be held at the Trinity County Office of Education, 201 Memorial Drive, Weaverville, CA 96093.

FOR FURTHER INFORMATION CONTACT: Resource Advisory Committee Coordinator John Heibel at 530-226-2524 or jheibel@fs.fed.us.

SUPPLEMENTARY INFORMATION: The meeting is open to the public. Public input sessions will be provided and individuals will have the opportunity to address the Trinity County Resource Advisory Committee.

Dated: July 29, 2009.
Scott G. Armentrout,
Deputy Forest Supervisor, Shasta-Trinity National Forest.

[FR Doc. E9-18617 Filed 8-6-09; 8:45 am]

BILLING CODE M